DEPARTMENT OF HEALTH AND HUMAN SERVICES

Centers for Disease Control and Prevention

[60Day-18-18FO; Docket No. CDC-2018-0012]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “DELTA Impact Recipient Monitoring and Assessment Tools.” Information collected will be used for implementation and performance monitoring of cooperative agreement CDC-RFA-CE18-1801: Domestic Violence Prevention Enhancement and Leadership through Alliances (DELTA) Impact.

DATES: CDC must receive written comments on or before March 20, 2018.

ADDRESSES: You may submit comments, identified by Docket No. CDC-2018-0012 by any of the following methods:

• Federal eRulemaking Portal: Regulations.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

DELTA Impact Recipient Monitoring and Assessment Tools—New—National Center for Injury Prevention and Control (NCIPC), Centers for Disease Control and Prevention (CDC).

Background and Brief Description

The Centers for Disease Control and Prevention (CDC) seeks a three-year OMB approval for a new information collection project that involves 10 recipients (State Domestic Violence Coalitions) funded through CDC's Domestic Violence Prevention Enhancements and Leadership Through Alliances (DELTA) Impact Program cooperative agreement (NOFO CDC-RFA-CE18-1801). DELTA Impact recipients will report activity information to CDC annually. The Annual Progress Report (APR) tool and Prevention Infrastructure Assessment are designed to address four key program evaluation questions as well as performance reporting requirements established by CDC's Office of Financial Resources (OFR, formerly the Procurement and Grants Office).

Monitoring allows CDC to determine whether a recipient is meeting performance and budget goals and to make adjustments in the type and level of technical assistance provided to them, as needed, to support attainment of their performance measures. Program monitoring and program evaluation activities also allow CDC to identify and disseminate information about successful prevention strategies implemented by recipients.

These functions are central to the NCIPC's broad mission of protecting Americans from violence and injury threats. This information collection will enable the accurate, reliable, uniform, and timely submission to CDC of each recipient's work plan and progress reports, including strategy implementation, program evaluation and performance measures. It will also enable CDC to evaluate the program across all funded recipients.

CDC will use the information collected to look at the aggregate impact of program activities on program outcomes across all 10 recipients. The information collection will allow CDC to monitor the increased emphasis on strategies that affect health outcomes and impact, and is expected to reduce duplication of effort, enhance program impact and maximize the use of federal funds. CDC will be able to generate reports that summarize their activities and progress towards meeting work plan strategies and performance measure targets. In addition to CDC's tracking of program goals and outcomes, the data collected will provide a way for recipients to track their own activities and funding to local organizations as required by legislation. CDC will also have the capacity to generate reports that describe activities across multiple recipients and will be able to provide this information back to recipients or to respond to inquiries from HHS, the White House, Congress and other stakeholders about the national DELTA Impact Program activities and their impact.

The total estimated annualized time burden for this collection is 123 hours. The only cost to respondents will be time spent responding to the surveys.

Estimated Annualized Burden Hours
Type of respondents | Form name | Number of respondents | Number of responses per respondent | Average burden per response (in hours) | Total burden (in hours)
DELTA Impact Program Recipients State Domestic Violence Coalitions | APR Tool—Year 1 | 10 | 1 | 15 | 150
| APR Tool—Years 2 and 3 | 10 | 1 | 10 | 100
| Prevention Infrastructure Assessment | 10 | 1 | 1 | 10
Total |  |  |  |  | 123

Leroy A. Richardson,
Chief, Information Collection Review Office, Office of Scientific Integrity, Office of the Associate Director for Science, Office of the Director, Centers for Disease Control and Prevention.

[FR Doc. 2018-00926 Filed 1-18-18; 8:45 am]

BILLING CODE 4163-18-P